DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Annual Retail Trade Report.

Form Number(s): SA-44, SA-44A, SA-44C, SA-44E, SA-44N, SA-44S, SA-45, SA-45C, SA-721A and SA-721E.

Agency Approval Number: 0607-0013.

Type of Request: Extension of a currently approved collection.

Burden: 11,095 hours.

Number of Respondents: 21,570.

Avg Hours Per Response: 31 minutes.

Needs and Uses: The U.S. Census Bureau requests continued OMB approval of the Annual Retail Trade Survey (ARTS). The ARTS provides the only continuing official measure of annual total retail sales, e-commerce sales, end-of-year inventories, sales/inventory ratios, purchases, inventory valuation methods, gross margin, and end-of-year accounts receivables for retailers and annual sales and e-commerce sales for accommodation and food services firms in the United States.

The data collected in the ARTS provide a current statistical picture of the retail and food services and accommodations portions of consumer activity. Also, the estimates compiled from this survey provide valuable information for economic policy decisions and actions by government and are widely used by private businesses, trade organizations, professional associations, and others for market research and analysis. The sales and receipts are used by the Bureau of Economic Analysis (BEA) in determining the consumption portion of the Gross Domestic Product (GDP).

The BEA is the primary Federal user of the data collected in the ARTS and the information collected is critical to the quality of several of BEA's key programs. The data on retail sales are used to prepare detailed annual personal consumption expenditures estimates; merchandise inventories, valuation methods and merchandise purchases are used to prepare annual estimates of change in the business inventory component of GDP. Sales, merchandise purchases, inventories, inventory valuation and sales tax data are used to prepare estimates of GDP by industry and to derive industry output for the input-output accounts.

In addition, the results of the ARTS are used to benchmark estimates of monthly retail sales, e-commerce sales, and inventories from the Current Retail Sales and Inventory Survey (OMB Approval #0607-0717), which are key economic indicators that provide timely input for computation of the national accounts. Accounts receivable balances are used by the Federal Reserve Board in measuring consumer credit.

Private businesses use these estimates to determine market share and to perform other analysis. It is extremely important to both the public and the private sectors that accurate and timely measures of consumer spending be made readily available.

Affected Public: Business or other for-profit.

Frequency: Annually.

Respondent's Obligation: Mandatory.

Legal Authority: Title 13 U.S.C., Sections 182, 224, and 225.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: August 18, 2005.
Madeleine Clayton,
Management Analyst, Office of the Chief Information Officer.

[FR Doc. 05-16830 Filed 8-23-05; 8:45 am]

BILLING CODE 3510-07-P